DEPARTMENT OF ENERGY

Federal Energy Regulatory Commission

Combined Notice of Filings #3

Take notice that the Commission received the following electric rate filings:

Docket Numbers: ER10-2985-017; ER10-3049-018; ER10-3051-018.

Applicants: Champion Energy Marketing LLC, Champion Energy Services, LLC, Champion Energy, LLC.

Description: Notice of Change in Status of the Champion Utilities.

Filed Date: 10/29/15.

Accession Number: 20151029-5444.

Comments Due: 5 p.m. ET 11/19/15.

Docket Numbers: ER16-90-000.

Applicants: Golden Hills Interconnection, LLC.

Description: Clarification to October 19, 2015 Golden Hills Interconnection, LLC tariff filing under ER16-90.

Filed Date: 10/28/15.

Accession Number: 20151028-5399.

Comments Due: 5 p.m. ET 11/12/15.

Docket Numbers: ER16-131-000.

Applicants: Heber Geothermal Company LLC.

Description: Amendment to October 21, 2015 Heber Geothermal Company LLC tariff filing.

Filed Date: 10/29/15.

Accession Number: 20151029-5307.

Comments Due: 5 p.m. ET 11/12/15.

Docket Numbers: ER16-164-000.

Applicants: Wisconsin Power and Light Company.

Description: Section 205(d) Rate Filing: WPL Changes in Depreciation & Amortization for Wholesale Production Service to be effective 12/31/2015.

Filed Date: 10/29/15.

Accession Number: 20151029-5433.

Comments Due: 5 p.m. ET 11/19/15.

Docket Numbers: ER16-165-000.

Applicants: Southwest Power Pool, Inc.

Description: Section 205(d) Rate Filing: Revisions to Clarify Treatment of Point-To-Point Transmission Service Revenues to be effective 1/1/2016.

Filed Date: 10/29/15.

Accession Number: 20151029-5442.

Comments Due: 5 p.m. ET 11/19/15.

Docket Numbers: ER16-166-000.

Applicants: Midcontinent Independent System Operator, Inc., Entergy Services, Inc.

Description: Section 205(d) Rate Filing: 2015-10-29_EAI-AECC Amended JPZ Agreement to be effective 1/1/2016.

Filed Date: 10/29/15.

Accession Number: 20151029-5445.

Comments Due: 5 p.m. ET 11/19/15.

Docket Numbers: ER16-167-000.

Applicants: ISO New England Inc., New England Power Pool Participants Committee.

Description: Section 205(d) Rate Filing: Part 1 of Two-Part Filing of Demand Response Changes to be effective 12/31/2015.

Filed Date: 10/29/15.

Accession Number: 20151029-5473.

Comments Due: 5 p.m. ET 11/19/15.

Docket Numbers: ER16-168-000.

Applicants: New York Independent System Operator, Inc.

Description: Section 205(d) Rate Filing: NYISO 205 filing re: physical withholding & fuel costs in reference levels to be effective 12/28/2015.

Filed Date: 10/29/15.

Accession Number: 20151029-5482.

Comments Due: 5 p.m. ET 11/19/15.

Docket Numbers: ER16-169-000.

Applicants: ISO New England Inc., New England Power Pool Participants Committee.

Description: Section 205(d) Rate Filing: Part 2 of Two-Part Filing of Demand Response Changes to be effective 6/1/2016.

Filed Date: 10/29/15.

Accession Number: 20151029-5495.

Comments Due: 5 p.m. ET 11/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2015.
Nathaniel J. Davis, Sr.,
Deputy Secretary.

[FR Doc. 2015-28207 Filed 11-4-15; 8:45 am]

BILLING CODE 6717-01-P